DEPARTMENT OF HEALTH AND HUMAN SERVICES

Centers for Medicare & Medicaid Services

42 CFR Part 418

[CMS-1355-P]

RIN 0938-AQ31

Medicare Program; Hospice Wage Index for Fiscal Year 2012

Correction

In proposed rule document 2011-10689 appearing on pages 26805-26851 the issue of Monday, May 9, 2011 make the following corrections:

On page 26806, in the first column, in the DATES section, in the fifth line, “July 8, 2011” should read “June 27, 2011”.

On page 26851, immediately following the text of Addendum A, insert the following Addendum:

Addendum B—FY 2012 Wage Index for Rural Areas
CBSA code | Nonurban area | Wage index
1 | Alabama | 0.8000
2 | Alaska | 1.3073
3 | Arizona | 0.9417
4 | Arkansas | 0.8000
5 | California | 1.2483
6 | Colorado | 1.0285
7 | Connecticut | 1.1522
8 | Delaware | 1.0103
9 | District of Columbia ¹
10 | Florida | 0.8707
11 | Georgia | 0.8000
12 | Hawaii | 1.1586
13 | Idaho | 0.8000
14 | Illinois | 0.8639
15 | Indiana | 0.8688
16 | Iowa | 0.8848
17 | Kansas | 0.8264
18 | Kentucky | 0.8107
19 | Louisiana | 0.8000
20 | Maine | 0.8892
21 | Maryland | 0.9500
22 | Massachusetts ² | 1.2186
23 | Michigan | 0.8858
24 | Minnesota | 0.9358
25 | Mississippi | 0.8000
26 | Missouri | 0.8000
27 | Montana | 0.8819
28 | Nebraska | 0.9227
29 | Nevada | 0.9681
30 | New Hampshire | 1.0569
31 | New Jersey¹ |
32 | New Mexico | 0.9227
33 | New York | 0.8475
34 | North Carolina | 0.8655
35 | North Dakota | 0.7856
36 | Ohio | 0.8864
37 | Oklahoma | 0.8139
38 | Oregon | 1.0384
39 | Pennsylvania | 0.8781
40 | Puerto Rico³ | 0.4654
41 | Rhode Island ¹ |
42 | South Carolina | 0.8711
43 | South Dakota | 0.8838
44 | Tennessee | 0.8165
45 | Texas | 0.8083
46 | Utah | 0.8955
47 | Vermont | 0.9931
48 | Virgin Islands | 0.8276
49 | Virginia | 0.8119
50 | Washington | 1.0545
51 | West Virginia | 0.8000
52 | Wisconsin | 0.9512
53 | Wyoming | 0.9866
65 | Guam | 0.9952
¹ There are no rural areas in this State or District.
² There are no hospitals in the rural areas of Massachusetts, so the wage index value used is the average of the contiguous Counties.
³ Wage index values are obtained using the methodology described in this proposed rule.

[FR Doc. C1-2011-10689 Filed 5-13-11; 8:45 am]

BILLING CODE 1505-01-D